DEPARTMENT OF ENERGY

Federal Energy Regulatory Commission

Combined Notice of Filings # 1

June 18, 2008.

Take notice that the Commission received the following electric rate filings:

Docket Numbers: ER96-2495-030; ER97-4143-018; ER07-1130-001; ER98-2075-024; ER98-542-020.

Applicants: AEP Power Marketing Inc; American Electric Power Service Corporation; CSW Energy Services, Inc.; Central and South West Services, Inc.

Description: Response of American Electric Power Service Corporation.

Filed Date: 06/16/2008.

Accession Number: 20080616-5108.

Comment Date: 5 p.m. Eastern Time on Monday, July 07, 2008.

Docket Numbers: ER96-2601-021; ER96-2602-010.

Applicants: DPL Energy, LLC; The Dayton Power and Light Company.

Description: The Dayton Power and Light Co et al. submits a corrected compliance filing re revised tariff filed 4/23/08.

Filed Date: 06/17/2008.

Accession Number: 20080618-0015.

Comment Date: 5 p.m. Eastern Time on Tuesday, July 08, 2008.

Docket Numbers: ER96-496-017; ER99-14-014; ER99-3658-004.

Applicants: Northeast Utilities Service Company; Select Energy, Inc.

Description: Northeast Utilities Service Co on behalf of Northeast Utilities Companies et al. submits a revised affirmative statement and revised proposed market-base rate tariffs etc in compliance with Order 614 and 697.

Filed Date: 06/16/2008.

Accession Number: 20080617-0107.

Comment Date: 5 p.m. Eastern Time on Monday, July 07, 2008.

Docket Numbers: ER07-59-004.

Applicants: Fortis Energy Marketing & Trading GP.

Description: Fortis Energy Marketing & Trading GP submits a request for Category 1 status and revised market-based rate tariff.

Filed Date: 06/17/2008.

Accession Number: 20080617-0259.

Comment Date: 5 p.m. Eastern Time on Tuesday, July 08, 2008.

Docket Numbers: ER08-774-001.

Applicants: Entergy Services, Inc.

Description: Entergy Operating Companies submits their responses to FERC's letter request dated 5/30/08.

Filed Date: 06/16/2008.

Accession Number: 20080617-0076.

Comment Date: 5 p.m. Eastern Time on Monday, July 07, 2008.

Docket Numbers: ER08-794-001.

Applicants: Ameren Services Company.

Description: Central Illinois Public Service Company submits a Letter Agreement in compliance with FERC's 5/27/07 Order, to be effective 6/3/08.

Filed Date: 06/16/2008.

Accession Number: 20080617-0001.

Comment Date: 5 p.m. Eastern Time on Monday, July 07, 2008.

Docket Numbers: ER08-795-001.

Applicants: Ameren Services Company.

Description: Central Illinois Public Service Company submits a Letter Agreement in compliance with FERC's 5/27/07 letter order.

Filed Date: 06/16/2008.

Accession Number: 20080617-0002.

Comment Date: 5 p.m. Eastern Time on Monday, July 07, 2008.

Docket Numbers: ER08-1108-000; ER00-2603-005; ER06-169-001.

Applicants: Syracuse Energy Corporation; Trigen-Syracuse Energy Corporation; SUEZ Energy Marketing NA, Inc.

Description: Syracuse Energy Corp submits notification of a change in status with respect to their market-based rate authority.

Filed Date: 06/16/2008.

Accession Number: 20080617-0103.

Comment Date: 5 p.m. Eastern Time on Monday, July 07, 2008.

Docket Numbers: ER08-1109-000.

Applicants: Maine Public Service Company.

Description: Maine Public Service Co submits an informational filing setting forth the changes open access transmission tariff charges effective 6/1/08.

Filed Date: 06/16/2008.

Accession Number: 20080617-0102.

Comment Date: 5 p.m. Eastern Time on Monday, July 07, 2008.

Docket Numbers: ER08-1110-000.

Applicants: Tampa Electric Company.

Description: Tampa Electric Company submits amended charges for operation and maintenance services performed under two interconnection agreements with Mosaic Fertilizer LLC.

Filed Date: 06/16/2008.

Accession Number: 20080617-0108.

Comment Date: 5 p.m. Eastern Time on Monday, July 07, 2008.

Docket Numbers: ER08-1111-000.

Applicants: Pioneer Prairie Wind Farm I, LLC.

Description: Petition of Pioneer Prairie Wind Farm I, LLC for order accepting market-based rate tariff for filing and granting waivers and blanket approvals.

Filed Date: 06/16/2008.

Accession Number: 20080617-0101.

Comment Date: 5 p.m. Eastern Time on Monday, July 07, 2008.

Docket Numbers: ER08-1112-000.

Applicants: New York State Electric and Gas Corporation.

Description: New York State Electric & Gas Corporation submits a supplement to Rate Schedule FERC 200—Facilities Agreement with New York Power Authority.

Filed Date: 06/13/2008.

Accession Number: 20080617-0255.

Comment Date: 5 p.m. Eastern Time on Monday, July 07, 2008.

Take notice that the Commission received the following open access transmission tariff filings:

Docket Numbers: OA07-51-002.

Applicants: Mid-Continent Area Power Pool.

Description: Mid-Continent Area Power Pool submits revisions to their FERC Electric Tariff, First Revised Volume 1, effective date of 11/30/07.

Filed Date: 06/16/2008.

Accession Number: 20080617-0257.

Comment Date: 5 p.m. Eastern Time on Monday, July 07, 2008.

Docket Numbers: OA07-61-002.

Applicants: Maine Public Service Company.

Description: Compliance filing of Maine Public Service Co.

Filed Date: 06/16/2008.

Accession Number: 20080616-5073.

Comment Date: 5 p.m. Eastern Time on Monday, July 07, 2008.

Docket Numbers: OA08-12-002.

Applicants: California Independent System Operator C.

Description: California Independent System Operator Corp submits a filing to comply with FERC's 5/16/08 Order.

Filed Date: 06/16/2008.

Accession Number: 20080617-0105.

Comment Date: 5 p.m. Eastern Time on Monday, July 07, 2008.

Docket Numbers: OA08-14-004.

Applicants: Midwest Independent Transmission System.

Description: Midwest Independent Transmission System Operator, Inc submits a compliance filing revising their Open Access Transmission and Energy Markets Tariff.

Filed Date: 06/16/2008.

Accession Number: 20080617-0104.

Comment Date: 5 p.m. Eastern Time on Monday, July 07, 2008.

Docket Numbers: OA08-5-002.

Applicants: Southwest Power Pool, Inc.

Description: Southwest Power Pool Inc submits revisions to their Open Access Transmission Tariff.

Filed Date: 06/16/2008.

Accession Number: 20080617-0256.

Comment Date: 5 p.m. Eastern Time on Monday, July 07, 2008.

Docket Numbers: OA08-9-001.

Applicants: PJM Interconnection, L.L.C.

Description: PJM Interconnection, L.L.C. submits its Order No. 890 OATT Filing.

Filed Date: 06/16/2008.

Accession Number: 20080616-5120.

Comment Date: 5 p.m. Eastern Time on Monday, July 07, 2008.

Take notice that the Commission received the following public utility holding company filings:

Docket Numbers: PH08-29-000.

Applicants: NEC-EPS Holding, LLC.

Description: Application (FERC-56A) of Exemption of NEC-EPS Holding, LLC.

Filed Date: 06/16/2008.

Accession Number: 20080616-5099.

Comment Date: 5 p.m. Eastern Time on Monday, July 07, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-14176 Filed 6-23-08; 8:45 am]

BILLING CODE 6717-01-P